DEPARTMENT OF EDUCATION

Discretionary Grant Programs

AGENCY: Department of Education.

ACTION: Notice of final discretionary grant priorities for fiscal year 2009.

SUMMARY: The Secretary announces the continued use—in fiscal year (FY) 2009—of priorities that the Department of Education (Department) previously established for use in any discretionary grant program competition in FY 2007 and FY 2008. We take this action in order to continue to focus Federal financial assistance on expanding the number of programs and projects that support activities in areas of greatest educational need. We are continuing the use of these priorities on a Department-wide basis so that Department offices can use one or more of them in any discretionary grant competition, as appropriate.

DATES: Effective Date: These priorities are effective for use in FY 2009 on January 20, 2009.

FOR FURTHER INFORMATION CONTACT: Margo K. Anderson, U.S. Department of Education, 400 Maryland Avenue, SW., room 4W311, Washington, DC 20202-5910. Telephone: (202) 205-3010 or by e-mail: Margo.Anderson@ed.gov.

If you use a telecommunications device for the deaf (TDD), call the Federal Relay Service (FRS), toll free, at 1-800-877-8339.

SUPPLEMENTARY INFORMATION: We published a notice of intent to use certain discretionary grant priorities in FY 2009 (Notice of Proposed Action) in the Federal Register on August 27, 2008 (73 FR 50601). In the Notice of Proposed Action, we proposed to use the priorities in the following areas, which had been established for use in FY 2007 and FY 2008 only, for discretionary grant competitions in FY 2009:

1. Mathematics

2. Science

3. Critical-Need Languages

4. Secondary Schools

5. Professional Development for Secondary School Teachers

6. School Districts with Schools in Need of Improvement, Corrective Action, or Restructuring

7. Student Achievement Data

8. State Data Systems

Because we determined that these priorities are still relevant to the Nation's educational needs, we proposed to continue to use them for discretionary grant competitions in FY 2009.¹ This will allow the Department to continue to focus limited Federal resources on areas of greatest educational need in FY 2009.

¹ The Secretary recognizes that some of the priorities will not be appropriate for particular programs.

There are no differences between the Notice of Proposed Action and this notice of final discretionary grant priorities for FY 2009.

Public Comment: In response to our invitation in the Notice of Proposed Action, one party submitted a comment.

Comment: One commenter generally supported the existing priorities and the Department's plan to continue their use in discretionary grant competitions in FY 2009. This commenter also recommended that the Department establish an additional priority designed to ensure access for all students to the benefits of the existing priorities.

Discussion: We appreciate the commenter's support for the existing Department-wide priorities and their continued use in FY 2009. We decline, however, to establish an additional priority on ensuring access for all students to the benefits of the other priorities in this notice. We do not believe it is necessary or appropriate to establish the additional priority recommended by the commenter. The purpose of the Department-wide priorities is to focus resources on activities that will serve students with the greatest need and to address some of the areas of greatest educational need.

Changes: None.

Final Priorities

Priority 1—Mathematics. Projects that support activities to enable students to achieve proficiency or advanced proficiency in mathematics.

Priority 2—Science. Projects that support activities to enable students to achieve proficiency or advanced proficiency in science.

Priority 3—Critical-Need Languages. Projects that support activities to enable students to achieve proficiency or advanced proficiency in one or more of the following less commonly taught languages: Arabic, Chinese, Korean, Japanese, Russian, and languages in the Indic, Iranian, and Turkic language families.

Priority 4—Secondary Schools. Projects that support activities and interventions aimed at improving the academic achievement of secondary school students who are at greatest risk of not meeting challenging State academic standards and not completing high school.

Priority 5—Professional Development for Secondary School Teachers. Projects that support high-quality professional development for secondary school teachers to help these teachers improve student academic achievement.

Priority 6—School Districts with Schools in Need of Improvement, Corrective Action, or Restructuring. Projects that help school districts implement academic and structural interventions in schools that have been identified for improvement, corrective action, or restructuring under the Elementary and Secondary Education Act of 1965, as amended by the No Child Left Behind Act of 2001.

Priority 7—Student Achievement Data. Projects that collect pre- and post-intervention test data to assess the effect of the projects on the academic achievement of student participants relative to appropriate comparison or control groups.

Priority 8—State Data Systems. Projects that help educators use information from State data systems to improve student achievement or other appropriate outcomes.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the competitive preference priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. If we choose to use one or more of the priorities referenced in this notice in FY 2009, we will invite applications for new awards under the applicable program through a notice in the Federal Register.

Executive Order 12866: This notice has been reviewed in accordance with Executive Order 12866. Under the terms of the order, we have assessed the potential costs and benefits of this final regulatory action.

The potential costs associated with this final regulatory action are those resulting from statutory requirements and those we have determined as necessary for administering the Department's discretionary grant programs effectively and efficiently.

In assessing the potential costs and benefits—both quantitative and qualitative—of this notice we have determined that the benefits of this final regulatory action justify the costs.

We have determined, also, that this regulatory action does not unduly interfere with State, local, and tribal governments in the exercise of their governmental functions.

Executive Order 12372: Some of the programs affected by this notice are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number does not apply.)

Program Authority: 20 U.S.C. 1221e-3; 20 U.S.C. 6301 et seq.

Dated: November 18, 2008.
Margaret Spellings,
Secretary of Education.

[FR Doc. E8-27744 Filed 11-20-08; 8:45 am]

BILLING CODE 4000-01-P